DEPARTMENT OF COMMERCE

National Oceanic and Atmospheric Administration

RIN 0648-BA21

Notice of Availability of a Draft Environmental Impact Statement for the Proposed Expansion for the Flower Garden Banks National Marine Sanctuary; Announcement of Public Meetings

AGENCY: Office of National Marine Sanctuaries (ONMS), National Ocean Service (NOS), National Oceanic and Atmospheric Administration (NOAA), Department of Commerce (DOC).

ACTION: Notice of availability and public meetings.

SUMMARY: The National Oceanic and Atmospheric Administration (NOAA) has prepared a draft environmental impact statement for the proposed actions of boundary expansion, and application of existing regulations and management plan actions to new geographic areas of the Flower Garden Banks National Marine Sanctuary (FGBNMS or sanctuary). The purpose of this action is to provide sanctuary protection for a number of nationally significant reefs and banks in the northcentral Gulf of Mexico. Five alternatives to implement these proposed actions are analyzed for potential effects on the human environment. NOAA is soliciting public comment on the draft environmental impact statement.

DATES: Comments on this draft environmental impact statement will be considered if received by August 19, 2016. Public meetings will be held in the following locations and times as indicated below:

(1) Galveston, Texas

Date: July 12, 2016

Location: Flower Garden Banks National Marine Sanctuary Office

Address: 4700 Avenue U, Building 216, Galveston, TX 77551

Time: 5:30-7:30 p.m.

(2) Houston, Texas

Date: July 13, 2016

Location: Trini Mendenhall Community Center

Address: 1414 Wirt Rd., Houston, TX 77055

Time: 5:30-7:30 p.m.

(3) New Orleans, Louisiana

Date: July 19, 2016

Location: Hilton New Orleans Airport, Segnette Room

Address: 901 Airline Drive, Kenner, LA 70062

Time: 5:30-7:30 p.m.

(4) Mobile, Alabama

Date: July 20, 2016

Location: Five Rivers Delta Center

Address: 30945 Five Rivers Blvd., Spanish Fort, AL 36527

Time: 5:30-7:30 p.m.

(5) Lafayette, Louisiana

Date: July 21, 2016

Location: Estuarine Habitats and Coastal Fisheries Center

Address: 646 Cajundome Blvd., Lafayette, LA 70506

Time: 5:30-7:30 p.m.

ADDRESSES: You may submit comments on this document, identified by NOAA-NOS-2016-0059, by any of the following methods:

• Electronic Submission: Submit all electronic public comments via the Federal e-Rulemaking Portal. Go to www.regulations.gov/#!docketDetail;D=NOAA-NOS-2016-0059, click the “Comment Now!” icon, complete the required fields, and enter or attach your comments.

• Mail: Flower Garden Banks National Marine Sanctuary, NOAA, 4700 Avenue U, Building 216, Galveston, TX 77551, Attn: George Schmahl, Superintendent.

Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. NOAA will accept anonymous comments (enter “N/A” in the required fields if you wish to remain anonymous).

FOR FURTHER INFORMATION CONTACT: Kelly Drinnen, Education and Outreach Specialist, Flower Garden Banks National Marine Sanctuary at 409-621-5151 ext. 102 or via email at fgbexpansion@noaa.gov.

Copies of the draft environmental impact statement can be downloaded or viewed on the internet at www.regulations.gov (search for docket #NOAA-NOS-2016-0059) or at http://flowergarden.noaa.gov. Copies can also be obtained by contacting the person identified under FOR FURTHER INFORMATION CONTACT.

SUPPLEMENTARY INFORMATION:

I. Background

Flower Garden Banks National Marine Sanctuary

Located in the northwestern Gulf of Mexico, 70 to 115 miles off the coasts of Texas and Louisiana, Flower Garden Banks National Marine Sanctuary (FGBNMS or sanctuary) currently includes three separate undersea features: East Flower Garden Bank; West Flower Garden Bank; and Stetson Bank. The banks range in depth from 55 feet to nearly 500 feet and provide a wide range of habitat conditions that support several distinct biological communities, including the northernmost coral reefs in the continental United States. These and similar formations throughout the north central Gulf of Mexico provide the foundation for significant habitat for a variety of species. The combination of location and geology makes FGBNMS extremely productive and diverse, and presents a unique set of challenges for managing and protecting its natural wonders. East and West Flower Garden Banks were designated a national marine sanctuary in 1992 for purposes of protecting and managing the conservation, ecological, recreational, research, education, historic and aesthetic resources and qualities of these areas. Stetson Bank was added to the sanctuary by Congress in 1996 (Pub. Law 104-283).

The Office of National Marine Sanctuaries (ONMS) is required to periodically review sanctuary management plans to ensure that sanctuary sites continue to best conserve, protect and enhance their nationally significant living and cultural resources. In 2012 NOAA updated and revised the 1991 Flower Garden Banks Management Plan to address recent scientific discoveries, advancements in managing marine resources, and new resource management issues. As a result of this review, the FGBNMS Advisory Council recommended expanding the sanctuary to provide similar protections to additional banks in the north central Gulf of Mexico.

On February 3, 2015 NOAA initiated the public scoping process (80 FR 5699) to consider expanding FGBNMS to include additional areas in the Gulf of Mexico. The public scoping period ended on April 6, 2015, during which time three public hearings were held and NOAA received both written and oral comments on the concept of expanding the boundaries of the sanctuary. NOAA received approximately 200 comments during that scoping period, generally supportive of the concept to expand the sanctuary boundary. Some comments were supportive with conditions tied to specific issues such as access to oil and gas resources and fisheries concerns. This information was considered during the development of the range of alternatives in the expansion proposal.

The expansion of the sanctuary to include additional nationally significant habitat is supported for a number of reasons. In general, the northern Gulf of Mexico is a heavily utilized and industrialized region, and there is a significant concern about impacts from bottom-disturbing activities (e.g. some activities related to oil and gas exploration and production, fishing with bottom tending gear, vessel anchoring, and salvage activities) on the sensitive biological resources and geological features associated with many reefs and banks in the area. Additional opportunities for research, exploration, and education related to these significant ocean resources is critical for understanding changes occurring in the environment, fostering a stewardship ethic, and developing an understanding of the ecosystem services these resources provide for communities throughout the Gulf of Mexico region.

II. NOAA Proposed Action

NOAA is releasing for public comment a DEIS that analyzes a proposed action to expand the FGBNMS boundary to include additional bank and reef areas in the northcentral Gulf of Mexico and to apply the existing sanctuary regulations and management regime to the expanded area. NOAA developed five alternatives for expanding the FGBNMS boundary. The alternatives range from taking no action to adding as much as an additional approximate 880 square miles.

NOAA's preferred alternative (Alternative 3) is the expansion of the existing boundaries from ~56 square miles to an area that encompasses ~383 square miles of waters in the northwestern Gulf of Mexico. This alternative would add 15 additional banks ranging from 70 to 120 miles off-shore that are comprised of reefs and bottom features that provide habitat for fish and other biological resources that serve as engines of sustainability for much of the Gulf of Mexico.

The proposed sanctuary expansion advances NOAA's mission to conserve and manage coastal and marine ecosystems and resources and furthers the FGBNMS mission to identify, protect, conserve, and enhance the natural and cultural resources, values, and qualities of FGBNMS and its regional environment for this and future generations. The need for the proposed sanctuary expansion is informed by widespread acute and chronic threats to marine habitat in the north central Gulf of Mexico that can most effectively be addressed through NOAA's evaluation and implementation of the comprehensive suite of habitat conservation and management actions made possible by FGBNMS expansion to ensure that valuable natural resources are available to future generations of Americans.

NOAA is seeking public comment on the DEIS which is available at http://flowergarden.noaa.gov/ or may be obtained by contacting the individual listed under the heading FOR FURTHER INFORMATION CONTACT.

Authority: 16 U.S.C. 1431 et seq.

Dated: June 1, 2016.
John Armor,
Acting Director, Office of National Marine Sanctuaries.

[FR Doc. 2016-13661 Filed 6-9-16; 8:45 am]

BILLING CODE 3510-NK-P